DEPARTMENT OF HEALTH AND HUMAN SERVICES

National Institutes of Health

National Institute on Alcohol Abuse and Alcoholism; Amended Notice of Meeting

Notice is hereby given of a change in the meeting of the Clinical, Treatment and Health Services Research Review Subcommittee, October 15, 2013, 08:00 a.m. to October 15, 2013, 05:00 p.m., National Institutes of Health, 5635 Fishers Lane, Bethesda, MD 20892, which was published in the Federal Register on July 16, 2013, 78 FR 42530.

The meeting notice is amended to change the date of the meeting from October 15, 2013 to November 12, 2013, due to the Government Shutdown. The time and location remain the same. The meeting is closed to the public.

Dated: October 28, 2013.
Carolyn A. Baum,
Program Analyst, Office of Federal Advisory Committee Policy.

[FR Doc. 2013-26237 Filed 11-1-13; 8:45 am]

BILLING CODE 4140-01-P